DEPARTMENT OF ENERGY

Federal Energy Regulatory Commission

[Docket Nos. RP01-236-006, RP00-553-009, and RP00-481-006.]

Transcontinental Gas Pipe Line Corporation; Notice of Compliance Plan

May 30, 2002

Take notice that on April 29, 2002, in compliance with the Commission's order issued March 29, 2002 in the referenced dockets, Transcontinental Gas Pipe Line Corporation (Transco) submits this filing to explain how it will comply with the requirements of Order Nos. 637 and 587 before the start of the 2002-03 winter heating season regardless of whether its 1Line business system is operational.

Transco indicates that the 1Line business system is on schedule for a April 1, 2003 implementation date and at that time it will be able to comply with Order Nos. 637 and 587. Transco outlines numerous delays in implementing 1Line and indicates that it cannot modify its existing business systems to comply with Order Nos. 637 and 587. Further, Transco contends that it cannot manually comply with Order Nos. 637 and 587. Transco contends that to address customer concerns regarding the trading fee for netting and trading, it proposes in the interim, to assess a trading fee based on the FT commodity rate, rather than the originally proposed IT rate. Transco included pro forma tariff sheets in its filing setting forth the interim trading fee. Transco proposes to file and move into effect these tariff sheets and the other 1line related tariff sheets filed in this proveeding for an April 1, 2003 implementation of 1Line. Transco also provided a proposed schedule identifying, among other things, the dates by which customer training and customer issues will be addressed under an April 1, 2003 implementation date.

Any person desiring to be heard or to protest said filing should file a motion to intervene or a protest with the Federal Energy Regulatory Commission, 888 First Street, NE, Washington, DC 20426, in accordance with Sections 385.214 or 385.211 of the Commission's Rules and Regulations. All such motions or protests must be filed must be filed on or before June 7, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-14149 Filed 6-5-02; 8:45 am]

BILLING CODE 6717-01-P